DEPARTMENT OF TRANSPORTATION

Intelligent Transportation Systems Connected Vehicle Reference Implementation Architecture Workshop; Notice of Public Meeting

AGENCY: ITS Joint Program Office, Office of the Assistant Secretary for Research and Technology, U.S. Department of Transportation.

ACTION: Notice.

In continuation of ITS Connected Vehicle Reference Implementation Architecture (CVRIA) efforts, the U.S. Department of Transportation (USDOT) Intelligent Transportation System Joint Program Office (ITS JPO) will present and seek input on the latest results of its Connected Vehicle architecture developments and standards analysis at a workshop in Cambridge, Massachusetts, June 10-12, 2015.

The event will be held at Draper Laboratory, located in the Kendall Square technology innovation area, and near USDOT's Volpe National Transportation Systems Center. The event will be presented in two parts:

• June 10: A training session on:

○ The CVRIA, a consistent framework to guide the planning and deployment of connected vehicle technologies. The architecture identifies options for interoperable deployment of technologies from an enterprise, physical, logical, and communications perspective. It also facilitates the ability of jurisdictions to operate collaboratively and to harness the benefits of a regional approach to transportation challenges.

○ The Systems Engineering Tool for Intelligent Transportation (SET-IT) Version 1.1, which allows implementers and decision makers to develop their own architectures for deployment.

Both are available at: http://www.its.dot.gov/arch/index.htm and www.iteris.com/cvria.

• June 11-12: A workshop that will provide implementers and decision makers with:

○ An update on the changes to CVRIA and SET-IT as they move toward the release of version 2.0 in late June 2015.

○ An update on the standards analysis that was performed using the CVRIA to identify interfaces that are candidates for standardization.

To register for the CVRIA workshop, please visit: www.itsa.org/cvriaregistration.

For further information, please contact Carlos Alban, Transportation Program Specialist, Intelligent Transportation Society of America, 1100 New Jersey Ave. SE., Suite 850 Washington, DC 20003, 202-721-4223, calban@itsa.org.

Updates will be available on the ITS Program Web site at: http://www.its.dot.gov/ under Press Room: Public Meetings and Events, and on the ITS Standards Web site at: http://www.standards.its.dot.gov/DevelopmentActivities/CVReference.

SUPPLEMENTARY INFORMATION: The CVRIA training will be conducted on Wednesday, June 10, 2015 from 9:00-16:00. The workshop will be conducted on Thursday, June 11, 2015 from 9:00-16:30 and on Friday, June 12, 2015 from 9:00-13:00. It will take place at Draper Laboratory, 555 Technology Square, Cambridge, MA 02139. Directions to Kendall Square, local hotel options, and information for access to Draper Laboratory will be provided to registrants.

As the results of the CVRIA, interface analysis, and standardization efforts are expected to affect a wide range of public and private organizations, it is important that the analyses incorporate, as appropriate, the needs and requirements of the CV community. This workshop is an appropriate opportunity for external stakeholders to engage in the standards discussion.

Issued in Washington, DC, on the 7th day of May 2015.
Stephen Glasscock,
Program Analyst, ITS Joint Program Office.

[FR Doc. 2015-11428 Filed 5-11-15; 8:45 am]

BILLING CODE 4910-22-P